DEPARTMENT OF COMMERCE

National Oceanic and Atmospheric Administration

[Docket No. 000309067-0365-02]

RIN 0648-ZA82

National Marine Aquaculture Initiative: Request for Proposals FY-2001

AGENCY: National Sea Grant College Program, Office of Oceanic and Atmospheric Research (OAR), National Oceanic and Atmospheric Administration, Commerce.

ACTION: Notice of request for proposals.

SUMMARY: The purpose of this notice is to advise the public that the Office of Oceanic and Atmospheric Research (OAR), through a process that includes other Department of Commerce agencies, including the national Sea Grant College Program, National Marine Fisheries Service (NMFS), and the National Ocean Service (NOS), is seeking pre-proposals and full proposals to participate in innovative research, policy and regulatory analysis and development, and outreach and demonstration for the development of marine aquaculture in the United States. For purposes of this competition the Great Lakes, and the species in them, are considered marine. OAR will hold an open competition for up to $5 million per year for two years (pending available funds), with individual projects up to $500,000 per year. The purpose is to develop a highly competitive, sustainable marine aquaculture industry that will meet growing consumer demand for aquatic foods and products that are of high quality, safe, competitively priced and are produced in an environmentally responsible manner.

DATES: Preliminary proposals must be received in the Office of Oceanic and Atmospheric Research by 4 p.m. EST, on February 20, 2001, and full proposals by 4 p.m., May 1, 2001. Preliminary proposal selection and notification will occur by March 9, 2001, and proposal selection will occur by June 10, 2001, and grant start dates will be September 1, 2001.

ADDRESSES: Applicants should be sent to the Office of Oceanic and Atmospheric Research.

Mailing address: Office of Oceanic and Atmospheric Research, Attn: National Marine Aquaculture Initiative Coordinator, NOAA, 1315 East-West Highway, Room 11838, Silver Spring, MD 20910.

For express mail or courier-delivered applications, the following address must be used: National Sea Grant Office, R/SG. Attn: National Marine Aquaculture Initiative Coordinator, NOAA, Room 1877, 1315 East-West Highway, Silver Spring, MD 20910. Phone: 301-713-2435.

Electronic Addresses: To contact: coordinator—Jim.McVey@NOAA.gov; or Mary.Robinson@NOAA.gov

NOAA/DOC Aquaculture Task Force members— www.noaalib.docaqua/frontpage/html.;

Sea Grant Directors— www.mdsg.umd.edu/ngo/research;

Sea Grant Forms—(www.nsgo.seagrant.org/research/rfp/index.html)

List of previous projects—www.noaalib.aquadoc/frontpage/html.

FOR FURTHER INFORMATION CONTACT: James P. McVey, National Marine Aquaculture Initiative Coordinator, or Mary Robinson, Secretary, National Sea Grant Office, 301-713-2451, facsimile 301-713-0799.

SUPPLEMENTARY INFORMATION:

I. Program Authority

33 U.S.C. 1121 et seq.

Background

Worldwide fisheries production will be inadequate to meet the needs of the world's population without supplementation through aquaculture and marine fish enhancement. The development of a robust aquaculture industry can help meet the seafood needs of the domestic market, reduce imports of fishery products and benefit the nation's balance of trade. In the U.S., marine aquaculture has been very slow to develop for a variety of reasons including the lack of appropriate technologies, difficulty in obtaining financing, concerns over environmental impacts, multi-use conflicts in the coastal zone, and difficult and expensive permit and licensing processes, to name a few. However, none of these problems are insurmountable and the need for creating a marine aquaculture sector has never been greater.

NOAA includes aquaculture in its Strategic Plan under the Build Sustainable Fisheries Initiatives as part of a three-part program that integrates aquaculture, capture fisheries and coastal community development in order to maximize value from coastal resources. This Initiative, in addition to a DOC Aquaculture Initiative, calls for NOAA and DOC to undertake research, demonstration, education/outreach, regulatory and financial support activities in support of marine aquaculture. A NOAA/DOC Aquaculture Task Force has been created to implement the provisions of these Initiatives. NOAA recognizes the role of other Departments such as USDA and DOI and state management partners in aquaculture and coordinates with other Department representatives at the regional level and at the national level through the Joint Sub-Committee on Aquaculture. The NOAA/DOC program is aligned with the National Aquaculture Development Plan created by the Joint Sub-Committee on Aquaculture.

Leveraging and Process

This solicitation allows funding of proposals from institutions of higher education, other non-profits, commercial organizations, state, local and Indian tribal governments and Federal agencies. Matching funds are not required but proposals that combine resources from institutions such as universities, Federal and State agencies, private industry and foundations in a regional context will be looked on most favorably (See “User Relationships” under the Evaluation Criteria).

This will be a two stage competition with two-page pre-proposals used in an initial selection process and full proposals requested from those selected in the pre-proposal process. The pre-proposal process is to reduce the burden of preparing full proposals that do not have a high probability for funding. Those not submitting pre-proposals are not eligible to submit full proposals, but those submitting pre-proposals, and not selected to submit full proposals, have the option to submit full proposals. The funds for this competition are in the Office of Oceanic and Atmospheric Research and Federal agencies may participate, however, the National Sea Grant College Program will administer the grant process.

Funding Availability and Priorities

The Office of Oceanic and Atmospheric Research encourages proposals that address the following: research, development, policy and management, extension and education priorities that have been developed through the NOAA/DOC budget process. FY 2001 funding for this program has not yet been appropriated, but it is anticipated that up to $5 million will be available for this competition in FY 2001, and a similar amount is anticipated for FY 2002. Therefore, we will accept proposals of one-or-two year duration for a maximum of $500,000 per year or a total of $1,000,000 for 2 years. However, funding after year one will depend upon funds received through the Federal budget process and a review of first year progress, and second year funding cannot be guaranteed. Applicants should check with the list of projects funded during the last 2 years to determine what has already been funded and how a proposed project might contribute to the ongoing DOC marine aquaculture initiative (See electronic addresses).

Areas of priority include:

Research. Aquaculture research can include husbandry; system engineering; genetics; disease prevention, diagnosis and control; nutrition; environmental studies; social sciences; marketing; product transport and product development; and other disciplines. We are encouraging research that addresses priority issues that stand as obstacles to the present and future success of the sustainable aquaculture in the United States. Where practicable, multi-disciplinary, regionally-based, studies are encouraged (See “User Relationships” under the Evaluation Criteria). NOAA is seeking proposals on enabling technologies for the existing aquaculture industries and for less developed areas of aquaculture such as marine ornamentals, water re-use systems, offshore or open ocean systems, and marine species enhancement. We are also looking for proposals on the siting of aquaculture activities and studies on the environmental, genetic and trophic level consequences of marine aquaculture and marine species enhancement. The goal is to develop new industry opportunities using research resources at Federal, State, academic and private industry facilities.

Demonstration. Projects to allow pilot scale testing of technologies to prove concepts, establish economic feasibility, conduct environmental monitoring and modeling, develop multi-use platforms and evaluate marine species enhancement and production technologies will be considered for this competition.

Regulatory issues. Proposals to define and clarify license and permit procedures, address the use of the Exclusive Economic Zone (EEZ) for aquaculture, develop siting criteria and siting methods including aquaculture zoning, develop best management practices and codes of conduct for aquaculture and address the issues of aquaculture in interstate commerce and improved food safety are encouraged and have been identified as high priority topics by industry and federal agencies involved in development of the National Aquaculture Development Plan.

Education/outreach. Education and outreach activities that convey research results to the end users, determine industry needs, educate the public and involve and instruct students in aquaculture-related science will be considered.

Financial support. Proposals that address the financial requirements of aquaculture, help set priorities for financial support and address marketing and trade issues are encouraged. Creation of model business plans that provide financial institutions with decision-making tools for aquaculture investments will also be considered.

Regional and issue coordination. OAR recognizes the need for integrated regional planning and prioritization in order to focus Federal assistance efforts. OAR is seeking proposals to establish mechanisms for broad regional planning that would address NOAA goals to promote environmentally sound aquaculture. In some cases, like water re-use technologies, the issue may have interest across several regions and in such cases a national or multi-regional approach to coordination would be encouraged.

III. Eligibility

Eligible applicants are institutions of higher education, other non-profits, commercial organizations, state, local and Indian tribal governments and Federal agencies. Proposals selected for funding from non-Federal applicants will be funded through a project grant or cooperative agreement under the terms of this notice. Proposals selected for funding from NOAA agencies shall be effected by an intra-agency fund transfer. Proposals selected from a non-NOAA federal agency will be funded through an inter-agency transfer. PLEASE NOTE: Before non-NOAA Federal applicants may be funded, they must demonstrate that they have legal authority to receive funds from another Federal agency in excess of their appropriation. Because this announcement is not proposing to product goods or services from applicants, the Economy Act (31 U.S.C. 1535) is not an appropriate legal basis.

IV. Evaluation Criteria

The evaluation criteria for proposals submitted for support under the National Marine Aquaculture Initiative are as follows:

Scientific or Professional Merit (maximum 45 points)—The clarity of objectives and the level of scientific endeavor or professional merit exhibited in the proposal. The presence of a clear work plan, and probability of success. The innovativeness of the approach to the problem or the unique combination of technologies and disciplines to overcome a significant problem.

Impact of Proposed Project (maximum 30 points)—Significance of the problem relative to the priorities listed in this announcement, and the degree to which the activity, if successful, will advance the state of the science, industry, or state-of-the-art methods for marine aquaculture. The degree to which the project is cost effective relative to the work proposed.

User Relationships (maximum 20 points) degree to which the potential users of the results, i.e., industry, have been involved in the planning of the activity, will be involved in the execution of the activity and/or are providing funds. Degree to which inter-institutional and multi-disciplinary programs have been developed in order to leverage funds and resources. Presence of a plan to disseminate the results to user groups and the public.

Qualifications and Past Record of Investigators (maximum 5 points)—Degree to which investigators are qualified by education, training, and/or experience to execute the proposed activity; record of achievement with previous funding.

Selection Procedures

A pre-proposal review panel, to be organized by the Office of Oceanic and Atmospheric Research, will be convened at the NOAA Offices in Silver Spring, MD and will review all preliminary proposals. The pre-proposal review panel will consist of government, academic, industry and Non-government organization (NGO) representatives. This panel will assign points on an individual basis to each pre-proposal based on the evaluation criteria and priorities contained in this request for proposals. Those receiving an average score of the individual ratings over 81 points will be asked to submit full proposals. No consensus advice will be provided by the review panel to the NOAA/DC Aquaculture Task Force.

Full proposals submitted to the Office of Oceanic and Atmospheric Research will be sent to peer reviewers for written reviews. Reviewers will be asked to evaluate the proposals using the evaluation criteria listed in this announcement. Complete full proposals and accompanying written reviews will be sent to the Office of Oceanic and Atmospheric Research and evaluated by a peer review panel comprised of government, academic, industry and NGO experts organized by OAR. The members of the panel will provide individual point scores for each proposal using the evaluation criteria listed in this announcement and the input provided by the written reviews, but there will be no consensus advice. Their evaluations will be considered by the NOAA/DOC Aquaculture Steering Committee for final project selection. (See address for list of NOAA/DOC Aquaculture Task Force Members.)

For proposals rated above 81 points in average score, the NOAA/DOC Aquaculture Task Force managers will make the final project selection. They will: (a) Verify that projects address the priority areas listed in this announcement; (b) determine whether NOAA or other federal agencies are funding or planning to fund similar projects; (c) determine which proposals best meet the timeliness and overall vision of the NOAA/DOC aquaculture initiative projects; (d) can be accommodated within available funding (see summary and background sections of this document; (e) determine if components of the selected projects should not be funded; (f) determine the total duration of funding appropriate for each proposal; (g) determine the amount of funds available for each proposal. Consequently, awards may not necessarily be made to the highest-scored proposals. Investigators may be asked to modify objectives, work plans, or budgets prior to approval of the award. Subsequent administrative processing will be in accordance with current NOAA grants procedures. A summary statement of the scientific review by the peer panel will be provided to each applicant.

Applications must reflect the total budget necessary to accomplish the project. Cost sharing is not required but encouraged as part of the selection criteria listed here (See “User Relationships” in the Evaluation Criteria). The appropriateness of all cost-sharing will be determined on the basis of guidance provided in applicable Federal cost principles. The applicants will be bound by the percentage of cost sharing reflected in the grant award.

V. Instructions for Application

What to Submit

Preliminary proposals. Each preliminary proposal should not exceed two typewritten pages using 10 point font or larger, and provide the title of the research project; the title, name and address of investigators and partners; a background section that sets the stage for the work and identifies how the research would fit into any ongoing research in this area; a rationale of why the work should be conducted; a clear statement of objectives; the general methodology that will be used; and an estimated budget amount. The criteria for selection of preliminary proposals are the degree to which they fit the priority areas and evaluation criteria listed in this notice. A one page biography for each investigator should be included and will not be counted in the two page limit.

Full proposals. Each full proposal, that will be requested as the result of the pre-proposal process or those applicants submitting anyway, should include the items listed here. All pages should be single- or double-spaced, typewritten in at least a 10-point font, and printed on metric A4 (210 mm x 297 mm) or 8½″ x 11″ paper. Brevity will assist reviewers and program staff in dealing effectively with proposals. Therefore, the Project Description may not exceed 15 pages. Tables and visual materials, including charts, graphs, maps, photographs and other pictorial presentations are included in the 15-page limitation. The signature page, summary page, references/literature cited, budgets and budget notes, current and pending support sections and vitae do not count in the 15 page limit. Conformance to the 15-page limitation will be strictly enforced. All information needed for review of the proposal should be included in the main text; no appendices are permitted.

Federal agencies submitting proposals need to follow all of the instructions for submissions up to but not including Standard Application Forms for proposals.

(1) Signed title page: The title page should be signed by the Principal Investigator and the institutional representative and should clearly identify the program area being addressed by starting the project title with: National Marine Aquaculture Initiative. The Principal Investigator and institutional representative should be identified by full name, title, organization, telephone number and address. The total amounts of requested Federal funds and matching funds should be listed for each budget period.

(2) Project Summary: This information is very important. It is critical that the project summary accurately describe the research being proposed and convey all essential elements of the research. The project summary should not exceed two pages and include: (a) Title: Use the exact title as it appears in the rest of the application. (b) Investigators: List the names and affiliations of each investigator who will significantly contribute to the project. Start with the Principal Investigator. (c) Funding request for each year of the project, including matching funds. (d) Project Period: Start and completion dates: Proposals should request a start date of July 1, 2001 or later. (e) Project Summary: This should include the rationale for the project, the scientific or technical objectives and/or hypotheses to be tested, and a brief summary of work to be completed.

(3) Project description (15-page limit) Introduction/background/justification: Subjects that the investigator(s) may wish to include in this section are: (a) Current state of knowledge; (b) contributions that the study will make to the particular discipline or subject area; and (c) contributions the study will make toward addressing the problems identified in the National Marine Aquaculture Initiative.

Research or technical plan: (a) Objectives to be achieved, hypotheses to be tested; (b) Plan of work—discuss how stated project objectives will be achieved; and (c) Role of project personnel.

Output: Describe the project outputs that will contribute to improving and further developing marine aquaculture in the U.S.

Coordination with other program elements: Describe any coordination with other agency programs or ongoing research efforts. Describe any other proposals that are essential to the success of this proposal.

(4) References and literature citations: Should be included as appropriate.

(5) Budget and matching funds justification: There should be a separate budget for each year of the project as well as a cumulative budget for the entire project. Applicants are encouraged to use the Sea Grant Budget Form 90-4, but may use their own form as long as it provides the same information as the Sea Grant form. Subcontracts should have a separate budget page. Matching funds must be indicated. Applicants should provide justification for all budget items in sufficient detail to enable the reviewers to evaluate the appropriateness of the funding requested. Pay special attention to any travel or supply budgets and provide details. The total dollar amount of indirect costs must not exceed the indirect cost rate negotiated and approved by the cognizant Federal agency prior to the proposed effective date of the award or 100 percent of the total proposed direct costs dollar amount in the application, whichever is less. The Sea Grant Budget Form 90-4 is available through the World Wide Web or from the initiative coordinator (See electronic addresses).

(6) Current and pending support: Applicants must provide information on all current and pending Federal support for ongoing projects and proposals, including subsequent funding in the case of continuing grants. The proposed project and all other projects or activities requiring a portion of time of the principal investigator and other senior personnel should be included. The relationship between the proposed project and these other projects should be described, and the number of person-months per year to be devoted to the projects must be stated.

(7) Vitae (2 pages maximum per investigator). This is not counted in the 15 page maximum.

(8) Standard application forms:

Standard application forms are not necessary for pre-proposals or for the first request for full proposals. They will only be necessary when projects have been selected for funding.

Applicants may obtain all required application forms from state Sea Grant Programs, through the World Wide Web (see electronic addresses) or from the project coordinator. The following forms must be included:

(a) Standard Forms 424, Application for Federal Assistance, 424A, Budget Information—Non-Construction Programs; and 424B, Assurances—Non-Construction Programs, (Rev 4-88). Applications should clearly identify the program area being addressed by starting the project title with “National Marine Aquaculture Initiative”. Please note that both the Principal Investigator and an administrative contact should be identified in Section 5 of the SF424. The form must contain an original signature of the applicant institution's authorized representative.

(b) Primary applicant certifications. All primary applicants must submit a completed Form CD-511, “Certifications Regarding Debarment, Suspension and Other Responsibility Matters; Drug-Free Workplace Requirements and Lobbying,” and the following explanations are hereby provided:

(i) Non-procurement debarment and suspension. Prospective participants (as defined at 15 CFR part 26, section 105) are subject to 15 CFR part 26, “Non-procurement Debarment and Suspension” and the related section of the certification form prescribed above applies;

(ii) Drug-Free Workplace. Grantees (as defined at 15 CFR part 26, section 605) are subject to 15 CFR part 26, subpart F, “Government wide Requirements for Drug-Free Workplace (Grants)” and the related section of the certification form prescribed above applies;

(iii) Anti-lobbying. Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

(iv) Anti-lobbying disclosures. Any applicant that has paid or will pay for lobbying using any funds must submit an SF-LLL, “Disclosure of Lobbying Activities,” as required under 15 CFR part 28, Appendix B.

(c) Lower tier certifications. Recipients shall require applicants/bidders for sub-grants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to the Department of Commerce (DOC). SF-LLL submitted by any tier recipient or sub-recipient should be submitted to DOC in accordance with the instructions contained in the award document.

Applications received after the deadline and applications that deviate from the format described will be returned to the sender without review. Facsimile transmissions and electronic mail submission of applications will not be accepted.

How To Submit

Applicants residing in Sea Grant states may, at their discretion, submit preliminary proposals and proposals through the state Sea Grant programs, according to the schedules established by the state programs based on the submission dates to the Office of Oceanic and Atmospheric Research listed above. No culling of pre-proposals will occur at the state Sea Grant level. Sea Grant program directors will receive a list of proposals coming from their state as a courtesy. If applicants choose to submit proposals through Sea Grant programs, applicants should contact the state Sea Grant programs for submission dates and the number of copies required. A list of state Sea Grant program directors and their addresses can be found on the web (See Electronic Addresses) or obtained through Dr. James McVey.

Applicants not residing in Sea Grant states, or not wishing to submit through a state Sea Grant Program may submit directly to the Office of Oceanic and Atmospheric Research (see addresses). Although investigators are not required to submit more than 3 copies of the proposal to the Office of Oceanic and Atmospheric Research the normal review process requires 10 copies. Investigators are encouraged to submit sufficient proposal copies for the full review process if they wish all reviewers to receive color graphics, glossy photographs, nonstandard-sized pages (not 8.5 x 11″), or otherwise unusual materials submitted as part of the proposal. Only three copies of the Federally required forms are needed.

Other Requirements

Federal Policies and Procedures

Unsatisfactory performance under prior Federal awards may result in an application not being considered for funding.

If applicants incur any costs prior to an award being made, they do so solely at their own risk of not being reimbursed by the Government. Notwithstanding any verbal or written assurance that may have been received, there is no obligation on the part of Department of Commerce to cover pre-award costs.

Applicants are hereby notified that they are encouraged to the extent feasible, to purchase American-made products with funding provided under this program.

If an application is selected for funding, Department of Commerce has no obligation to provide any additional future funding in connection with that award. Renewal of an award to increase funding or extend the period of performance is at the total discretion of Department of Commerce.

No award of Federal funds shall be made to a applicant who has an outstanding delinquent Federal debt or fine until either:

ii. The delinquent account is paid in full,

ii. A negotiated repayment schedule is established and at least one payment is received, or

iii. Other arrangements satisfactory to Department of Commerce are made.

All non-profit and for-profit applicants are subject to a name check review process. Name checks are intended to reveal if any key individuals associated with the applicant have been convicted of or are presently facing criminal charges such as fraud, theft, perjury, or other matters which significantly reflect on the applicant's management honesty or financial integrity.

All primary applicants must submit a completed Form CD-511, “Certifications Regarding Debarment, Suspension and Other Responsibility Matters; Drug-Free Workplace Requirements and Lobbying,” and the following explanations are hereby provided:

A false statement on an application is grounds for denial or termination of funds and grounds for possible punishment by a fine or imprisonment as provided in 18 U.S.C. 1001.

Applications under this program are subject to Executive Order 12372, “Intergovernmental Review of Federal Programs.”

Prior notice and an opportunity for public comments are not required by the Administrative Procedure Act or any other law for this notice concerning grants, benefits, and contracts. Therefore, a regulatory flexibility analysis is not required for purposes of the Regulatory Flexibility Act.

This action has been determined to be not significant for purposes of Executive Order 12866.

This notice contains collection-of information requirements subject to the Paperwork Reduction Act. The Sea Grant Project Summary Form and the Sea Grant Budget Form have been approved under the Office of Management and Budget (OMB) Control Number 0648-0362, with estimated times per response of 20 and 15 minutes, respectively. The use of Standard Forms 424, 424A, 424B, and the SF-LLL have been approved by OMB under the respective control numbers 0348-0043, 038-0044, 038-0040 and 038-0046. The response time estimates above include the time for reviewing instructions, searching existing data sources, gathering and maintaining the data needed, and completing and reviewing the collection of information. Send comments on these estimates or any other estimates of these collections to the National Sea Grant Office/NOAA, 1315 East-West Highway, Silver Spring, Maryland 20910 and to the Office of Information and Regulatory Affairs, Office of Management and Budget, Washington, DC 20503 (Attention: NOAA Desk Officer). Notwithstanding any other provision of the law, no person is required to respond to, nor shall any person be subject to a penalty for failure to comply with, a collection of information subject to the requirements of the Paperwork Reduction Act, unless that collection of information displays a currently valid OMB Control Number.

Dated: December 20, 2000
David L. Evans,
Assistant Administrator for Oceanic and Atmospheric Research.

[FR Doc. 00-33000 Filed 12-26-00; 8:45 am]

BILLING CODE 3516-KA-M